DEPARTMENT OF THE INTERIOR

Bureau of Land Management

[LLCAN01000.L18200000.XZ0000]

Notice of Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northwest California Resource Advisory Council will meet as indicated below.

DATES: The meeting will be held Thursday and Friday, Feb. 21-22, 2013, at the Inn of the Lost Coast, 205 Wave Rd., Shelter Cove, California. On Feb. 21, the council will convene at 9 a.m. The meeting is open to the public. Public comments will be taken at 11 a.m. On Feb. 22, the council convenes at 8 a.m. and departs immediately for a field tour. Members of the public are welcome. They must provide their own transportation, food and beverages.

FOR FURTHER INFORMATION CONTACT: Nancy Haug, BLM Northern California District manager, (530) 224-2160; or Joseph J. Fontana, public affairs officer, (530) 252-5332.

SUPPLEMENTARY INFORMATION: The 12-member council advises the Secretary of the Interior, through the BLM, on a variety of planning and management issues associated with public land management in Northwest California. At this meeting the RAC will discuss planning efforts for the Lost Coast Headlands and Lacks Creek areas of Humboldt County, hear an update on land use plan development for the Redding Field Office, plan upcoming work with BLM field offices and hear reports on the status of the BLM's participation in the Northwest Forest Plan and marijuana eradication on public lands. All meetings are open to the public. Members of the public may present written comments to the council. Each formal council meeting will have time allocated for public comments. Depending on the number of persons wishing to speak, and the time available, the time for individual comments may be limited. Members of the public are welcome on field tours, but they must provide their own transportation and meals. Individuals who plan to attend and need special assistance, such as sign language interpretation and other reasonable accommodations, should contact the BLM as provided above.

Dated: January 15, 2013.
Joseph J. Fontana,
Public Affairs Officer.

[FR Doc. 2013-01294 Filed 1-22-13; 8:45 am]

BILLING CODE 4310-40-P